DEPARTMENT OF COMMERCE

National Oceanic and Atmospheric Administration

RIN 0648-XJ39

Unified Synthesis Product Development Committee

AGENCY: National Oceanic and Atmospheric Administration, Department of Commerce.

ACTION: Notice of Open Federal Advisory Committee Meeting.

SUMMARY: A major activity of the Climate Change Science Program (CCSP) is the production of a series of twenty-one Synthesis and Assessment Products (SAPs) that are designed to inform and aid decision making by policy makers, resource managers, stakeholders, the media, and the general public on issues related to global climate change. The Unified Synthesis Product (USP) Development Committee (USPDC), established by a Decision Memorandum on February 29, 2008, is the Federal Advisory Committee charged with responsibility to develop a draft USP that will synthesize the information contained in these 21 SAPs in the context of other recent climate and global change scientific studies and formal assessments.

DATES: The meeting will convene at 8 a.m. on Thursday, August 21, 2008 and adjourn at 5:30 p.m. on Friday, August 22, 2008. Meeting information will be available online on the USPDC website:

(http://www.climate.noaa.gov/index.jsp?pg=./ccsp/unified_synthesis.jsp).

Please note that meeting location, times, and agenda topics are subject to change.

ADDRESSES: The meeting will be held at the Erik Jonsson Center of the National Academies in Woods Hole, Massachusetts.

FOR FURTHER INFORMATION CONTACT: Dr. Christopher D. Miller, USPDC DFO and the Program Manager, NOAA/OAR/Climate Program Office, Climate Change Data and Detection Program Element, 1315 East-West Highway, Room 12239, Silver Spring, Maryland 20910; telephone 301-734-1241, e-mail: Christopher.D.Miller@noaa.gov.

SUPPLEMENTARY INFORMATION: Status: The meeting will be open to public participation and will include a 30-minute public comment period on August 21, 8 a.m. to 8:30 a.m. (check the USPDC website to confirm this time and the room in which the meeting will be held). In general, each individual or group making a verbal presentation will be limited to a total time of five (5) minutes. Written comments (at least 35 copies) should be received by the USPDC Designated Federal Official (DFO) by August 7, 2008 to provide sufficient time for review. Written comments received after August 7 will be distributed to the USPDC, but may not be reviewed prior to the meeting date. Seats will be available to the public on a first-come, first-served basis.

Matters to be Considered: The USP author team will consider all peer review and public comments received during the USP First Draft review phase, which ends on August 14, 2008. The authors will decide how to address each comment, and plans for completion of the Final Draft of the USP will be developed.

Dated: July 29, 2008.
William J. Brennan,
Assistant Secretary of Commerce for Oceans and Atmosphere, and Director, Climate Change Science Program.

[FR Doc. E8-17960 Filed 8-4-08; 8:45 am]

BILLING CODE 3510-12-S